DEPARTMENT OF THE INTERIOR

National Park Service

[NPS-WASO-NRSS-SSB-NPS0028077; PPWONRANDE2, PMP00E105.YP0000 (200); OMB Control Number 1024-0224]

Agency Information Collection Activities; Programmatic Clearance for NPS-Sponsored Public Surveys

AGENCY: National Park Service, Interior.

ACTION: Notice of Information Collection; request for comment.

SUMMARY: In accordance with the Paperwork Reduction Act of 1995, we, the National Park Service (NPS), are proposing to renew an information collection.

DATES: Interested persons are invited to submit comments on or before December 19, 2019.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0224 in the subject line of your comments.

FOR FURTHER INFORMATION CONTACT: To request additional information about this ICR, contact Bret Meldrum, Chief, Social Science Program National Park Service, 1201 Oakridge Drive, Fort Collins, CO 80525; or by email at bret_meldrum@nps.gov. Please reference OMB Control Number 1024-0224 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On May 28, 2019, we published a Federal Register notice soliciting comments on this collection of information for 60 days, ending on July 29, 2019 (84 FR 24536). We did not receive any comments regarding this information collection.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection, Interpretation, and Research in System (54 U.S.C. 100701) statutes to collect information used to enhance the management and planning of parks and their resources. Since 1998, the NPS Social Science program has relied heavily on this generic approval to navigate the PRA process in an expedited manner. This process significantly streamlines the information collection requests to OMB in a manner that allows the NPS to submit at least 25 requests per year, which is 4 times as many requests that can be processed annually using the regular submission route. The Programmatic Clearance applies to all NPS social science collections (e.g., questionnaires, focus groups, interviews, etc.) designed to furnish usable information to NPS managers and planners concerning visitor experiences, perceptions of services, programs, and planning efforts in areas managed by the NPS. To qualify for the NPS generic programmatic review process each information request must show clear ties to NPS management and planning needs in areas managed by the NPS or involve research that will directly benefit the NPS. The scope of the programmatic review process is limited to issues that are non-controversial or unlikely to attract significant public interest.

All collections must be reviewed by the NPS and approved by OMB before a collection is administered. At least 80% of the questions in an individual collection must be taken from the OMB approved Pool of Known Questions (PKQ). We acknowledge that the PKQ is not a comprehensive collection of all possible survey questions; therefore, we allow leeway for requestors to add park or research specific questions not in the PKQ. However, all questions must fit within the scope of the approved Topic Areas. The Social Science Program will continue to conduct necessary quality control and will submit each information collection request to OMB for expedited review before the collection is administered.

Title of Collection: Programmatic Clearance for NPS-Sponsored Public Surveys.

OMB Control Number: 1024-0224.

Form Number: Form 10-201.

Type of Review: Extension of a currently approved collection.

Respondents/Affected Public: Individuals/Households.

Respondent's Obligation: Voluntary.

Frequency of Collection: On occasion.

Total Estimated Annual Nonhour Burden Cost: None.

Activity/requirement | Annual number of responses | Estimated completion time per response (minutes) | Total annual burden hours
On-site Surveys | 30,000 | 15 | 7,500
Mail-back surveys | 2,000 | 20 | 667
All non-response surveys | 5,000 | 3 | 250
Telephone Surveys | 250 | 30 | 125
Focus Groups/In person interviews | 2,000 | 60 | 2,000
On-line surveys | 5,000 | 15 | 1,250
Total | 44,250 |  | 11,792

An agency may not conduct or sponsor and a person is not required to respond to a collection of information unless it displays a currently valid OMB control number.

The authority for this action is the Paperwork Reduction Act of 1995 (44 U.S.C. 3501 et seq.).

Phadrea Ponds,
Acting NPS Information Collection Clearance Officer, National Park Service.

[FR Doc. 2019-25029 Filed 11-18-19; 8:45 am]

BILLING CODE 4312-52-P